DEPARTMENT OF THE INTERIOR

Bureau of Land Management

[OR-936-1430-ET; HAG-07-0153; OR-59658]

Public Land Order No. 7685; Withdrawal of Public Land, Quartzville Creek; Oregon

AGENCY: Bureau of Land Management, Interior.

ACTION: Public land order.

SUMMARY: This order withdraws 501.80 acres of public lands from location and entry under the United States mining laws for a period of 20 years for the Bureau of Land Management (BLM) to protect the Quartzville Creek within a Wild and Scenic River Corridor in Linn County, Oregon.

DATES: Effective Date: January 2, 2008.

FOR FURTHER INFORMATION CONTACT: Charles R. Roy, BLM Oregon/Washington State Office, 503-808-6189.

SUPPLEMENTARY INFORMATION: The Bureau of Land Management will manage the lands to protect the unique natural, scenic and recreational values along the Quartzville Creek.

Order

By virtue of the authority vested in the Secretary of the Interior by Section 204 of the Federal Land Policy and Management Act of 1976, 43 U.S.C. 1714 (2000), it is ordered as follows:

1. Subject to valid existing rights, the following described lands are hereby withdrawn from location and entry under the United States mining laws including, but not limited to, 30 U.S.C. Ch. 2 (2000), to protect the unique natural, scenic and recreational values of the Quartzville Creek within a Wild and Scenic River Corridor:

Willamette Meridian

T.11 S., R. 3 E.,

Sec. 25, W½NE¼NW¼, S½NW¼NW¼, W½NW8¼SW¼NW¼, NW¼SW¼NW¼, E½SW¼SW¼NW¼, SE¼SW¼NW¼, NE¼NW¼SW¼, E½NW¼NW¼SW¼, SW¼NW¼SW¼, N½SE¼NW¼SW¼, and W½W½SW¼SW¼;

Sec. 26, E½SE¼NE¼SE¼, E½NE¼SE¼SE¼, and SE¼SE¼SE¼;

Sec. 35, W½ of lot 3, portion of W1/2E½ of lot 3, NE¼NE¼NE¼, E½W½NE¼NE¼, W½SE¼NE¼NE¼, S½NE¼SW¼NE¼, SE¼SW¼NE¼, W1/2NE¼SE¼NE¼, NW¼SE¼NE¼, W½SW¼SE¼NE¼, SW¼NE¼SW¼, N½SE¼NE¼SW¼, SW¼SE¼NE¼SW¼, N½NW¼SE¼, and N½S½NW¼SE¼.

T. 12 S., R. 3 E.,

Sec. 2, portion of W½ of lot 3, portion of lot 4, W½SW¼NW¼, and W½NW¼NW¼SW¼;

Sec. 3, SE¼ lot 1, N½NE¼SE¼NE¼, S½SE¼SE¼NE¼, NE¼SW¼SE¼, E½W½SW¼SE¼, and W½SE¼SW¼SE¼;

Sec. 9, E½NE¼NE¼SE¼, S½SW¼NE¼SW¼, SE¼NE¼SE¼, E½SE¼NW¼SE¼, E½NE¼SW¼SE¼, and SE¼SW¼SE¼;

Sec. 10, W½NE¼NW¼NE¼, NW¼NW¼NE¼, N½N½SW¼NW¼NE¼, S½N½NE¼NW¼, SW¼NE¼NW¼, N½N½SE¼NE¼NW¼, E½NE¼SW¼NW¼, S½SW¼SW¼NW¼, SE¼SW¼NW¼, NW¼SE¼NW¼, W½SW¼SE¼NW¼, and N½N½NW¼SW¼.

The areas described aggregate 501.80 acres in Linn County.

2. The withdrawal made by this order does not alter the applicability of those public land laws governing the use of the lands under lease, license, or permit, or governing the disposal of their mineral or vegetative resources other than under the mining laws.

3. This withdrawal will expire 20 years from the effective date of this order unless, as a result of a review conducted before the expiration date pursuant to Section 204(f) of the Federal Land Policy and Management Act of 1976, 43 U.S.C. 1714(f) (2000), the Secretary determines that the withdrawal shall be extended.

Dated: December 10, 2007.
C. Stephen Allred,
Assistant Secretary—Land and Minerals Management.

[FR Doc. E7-25455 Filed 12-31-07; 8:45 am]

BILLING CODE 4310-33-P